DEPARTMENT OF LABOR

Pension and Welfare Benefits Administration

A Special Joint Session of the Working Groups on Increasing Pension Coverage, Participation and Savings and Preparing for Retirement Advisory Council on Employee Welfare and Pension Benefits Plan; Notice of Meeting

Pursuant to the authority contained in section 512 of the Employee Retirement Income Security Act of 1974 (ERISA), 29 U.S.C. 1142, two of the three Working Groups assigned by the Advisory Council on Employee Welfare and Pension Benefit Plans to study the issue of increasing pension coverage, participation and savings as well as the issue of preparing for retirement will meet jointly at an open public meeting on Tuesday, July 17, 2001, in Room N-5437 A-C, U.S. Department of Labor Building, Second and Constitution Avenue NW, Washington, DC 20210.

The purpose of the joint open meeting, which will run from 9:00 a.m. to approximately 4:30 p.m., with a short break at noon for an in-place luncheon, is for Working Group members to hear testimony from several invited witnesses who'll discuss factors which either encourage or inhibit the growth of pension plan coverage and, ultimately, retirement security as well as what “best practices” there are that actually assist Americans facing retirement in the near future.

Members of the public are encouraged to file a written statement pertaining to the topic(s) by sending 20 copies on or before July 10, 2001, to Sharon Morrissey, Executive Secretary, ERISA Advisory Council, U.S. Department of Labor, Room N-5677, 200 Constitution Avenue, NW, Washington, DC 20210. Individuals or representatives of organizations wishing to address the Working Group(s) should forward their request to the Executive Secretary or telephone (202) 219-8753. Oral presentations will be limited to 20 minutes, but an extended statement may be submitted for the record. Individuals with disabilities, who need special accommodations, should contact Sharon Morrissey by July 10, at the address indicated in this notice.

Organizations or individuals may also submit statements for the record without testifying. Twenty (20) copies of such statements should be sent to the Executive Secretary of the Advisory Council at the above address. Papers will be accepted and included in the record of the meeting if received on or before July 10.

Signed at Washington, DC, this 21st day of June 2001.
Ann L. Combs,
Assistant Secretary, Pension and Welfare Benefits Administration.

[FR Doc. 01-16164 Filed 6-26-01; 8:45 am]

BILLING CODE 4510-29-M